DEPARTMENT OF THE TREASURY

Alcohol and Tobacco Tax and Trade Bureau

27 CFR Part 9

[Notice No. 42; Re: Notice No. 34]

RIN: 1513-AA64

Proposed Fort Ross-Seaview Viticultural Area (2003R-191T); Comment Period Extension

AGENCY: Alcohol and Tobacco Tax and Trade Bureau, Treasury.

ACTION: Notice of proposed rulemaking; extension of comment period.

SUMMARY: In response to an industry member request, the Alcohol and Tobacco Tax and Trade Bureau extends the comment period for Notice No. 34, Proposed Fort Ross-Seaview Viticultural Area, a notice of proposed rulemaking published in the Federal Register on March 8, 2005, for an additional 30 days.

DATES: Written comments must be received on or before June 8, 2005.

ADDRESSES: You may send comments to any of the following addresses:

• Chief, Regulations and Procedures Division, Alcohol and Tobacco Tax and Trade Bureau, Attn: Notice No. 29, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this extension notice, Notice No. 34, the petition, the appropriate maps, and any comments we receive on Notice No. 34 by appointment at the TTB Library, 1310 G Street, NW., Washington, DC 20220. To make an appointment, call 202-927-2400. You may also access copies of this extension notice, Notice No. 34, and the related comments online at http://www.ttb.gov/alcohol/rules/index.htm.

FOR FURTHER INFORMATION CONTACT: N. A. Sutton, Regulations and Procedures Division, Alcohol and Tobacco Tax and Trade Bureau, 925 Lakeville St., No. 158, Petaluma, CA 94952; telephone 415-271-1254.

SUPPLEMENTARY INFORMATION: Patrick Shabram, on his own behalf and on behalf of David Hirsch of Hirsch Vineyards, submitted a petition to establish the “Fort Ross-Seaview” American viticultural area in western Sonoma County, California. Located near the Pacific Ocean about 65 miles north of San Francisco, the proposed Fort Ross-Seaview viticultural area is within the existing North Coast (27 CFR 9.30) and Sonoma Coast (27 CFR 9.116) viticultural areas. The petitioner states that the proposed area currently has 18 commercial vineyards on 506 acres.

In Notice No. 34, published in the Federal Register (70 FR 11174) on Tuesday, March 8, 2005, we described the petitioner's rationale for the proposed establishment and requested comments on the proposal on or before May 9, 2005.

On May 3, 2005, we received a request from Brice Cutrer Jones to extend the comment period for Notice No. 34. Mr. Jones owns two vineyards close to the proposed Fort Ross-Seaview viticultural area. In his comment, Mr. Jones states that the proposed Ft. Ross-Seaview viticultural area boundary unjustifiably excludes nearby parcels subject to the same environmental influences, and he requested at least 30 additional days to comment on Notice No. 34.

In response to this request, we extend the comment period for Notice No. 34 an additional 30 days. Therefore, comments on Notice No. 34 are now due on or before June 8, 2005.

Drafting Information

Nancy Sutton of the Regulations and Procedures Division drafted this notice.

List of Subjects in 27 CFR Part 9

Wine.

Authority and Issuance

This notice is issued under the authority of 27 U.S.C. 205.

Signed: May 9, 2005.
John J. Manfreda,
Administrator.

[FR Doc. 05-9545 Filed 5-10-05; 8:57 am]

BILLING CODE 4810-31-P